DEPARTMENT OF TRANSPORTATION

Federal Aviation Administration

14 CFR Part 71

[Docket No. FAA-2010-0688; Airspace Docket No. 09-AGL-23]

RIN 2120-AA66

Proposed Establishment of Low Altitude Area Navigation Routes (T-281, T-283, T-285, T-286, and T-288); Nebraska and South Dakota

AGENCY: Federal Aviation Administration (FAA), DOT.

ACTION: Notice of proposed rulemaking (NPRM).

SUMMARY: This action proposes to establish five low altitude Area Navigation (RNAV) routes, designated T-281, T-283, T-285, T-286, and T-288, over Nebraska and South Dakota; controlled by Denver Air Route Traffic Control Center (ARTCC) and Minneapolis ARTCC. T-routes are low altitude Air Traffic Service routes, based on RNAV, for use by aircraft that have instrument flight rules (IFR) approved Global Positioning System (GPS)/Global Navigation Satellite System (GNSS) equipment. This action would enhance safety and improve the efficient use of the navigable airspace within Denver and Minneapolis ARTCC airspace.

DATES: Comments must be received on or before September 20, 2010.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2010-0688 and Airspace Docket No. 09-AGL-23 at the beginning of your comments. You may also submit comments through the Internet at http://www.regulations.gov.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2010-0688 and Airspace Docket No. 09-AGL-23) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2010-0688 and Airspace Docket No. 09-AGL-23.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov, or the Federal Register's Web page at http://www.faa.gov/air_traffic/publications/airspace_amendments/.

You may review the public docket containing the proposal, any comments received, and any final disposition in person in the Dockets Office (see ADDRESSES section for address and phone number) between 9 a.m. and 5 p.m., Monday through Friday, except Federal holidays. An informal docket may also be examined during normal business hours at the office of the Central Service Center, Air Traffic Organization, Federal Aviation Administration, 901 Locust, Kansas City, MO 64106.

Persons interested in being placed on a mailing list for future NPRM's should contact the FAA's Office of Rulemaking, (202) 267-9677, for a copy of Advisory Circular No. 11-2A, Notice of Proposed Rulemaking Distribution System, which describes the application procedure.

Background

The Manager, Denver ARTCC, has proposed the establishment of five RNAV routes, from Denver ARTCC airspace into Minneapolis ARTCC airspace. Currently, there are no established airways to allow aircraft to navigate between the sites identified in the proposed routes. The pilot's only options are to either fly Visual Flight Rules (VFR), VFR-On-Top, or file a flight plan with an altitude high enough for air traffic control to maintain radar surveillance and communication frequency coverage; unless they fly many miles out of their way to use established airways. The Minimum Instrument Flight Rules (IFR) Altitude (MIA) in these areas is between 4,000 feet mean sea level (MSL) and 7,000 feet MSL. The radio coverage is very good at the low altitudes between these points, but the radar surveillance coverage is not reliable below 11,000 feet MSL. In the winter months, these routes would be especially important because the pilots encounter icing at the higher altitudes and need to descend, sometimes below radar surveillance coverage.

The Proposal

The FAA is proposing an amendment to Title 14 Code of Federal Regulations (14 CFR) part 71 to establish five low altitude RNAV routes within Denver and Minneapolis ARTCC airspace. The routes, designated as T-281, T-283, T-285, T-286, and T-288, would be depicted on the appropriate IFR En Route Low Altitude charts and would only be intended for use by GPS/GNSS equipped aircraft. This action is proposed to enhance safety and to facilitate the efficient use of navigable airspace for en route IFR operations within Denver and Minneapolis ARTCC airspace.

Low altitude RNAV routes are published in paragraph 6011 of FAA Order 7400.9T signed August 27, 2009, and effective September 15, 2009, which is incorporated by reference in 14 CFR 71.1. The low altitude RNAV routes listed in this document will be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it establishes low altitude Area Navigation routes (T-routes) over Nebraska and South Dakota in Denver and Minneapolis ARTCC airspace.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, signed August 27, 2009 and effective September 15, 2009, is amended as follows:

Paragraph 6011—Area Navigation Routes.

* * * * *

T-281 YOZLE, NE to Pierre, SD [New]
YOZLE, NE | Fix | (Lat. 41°01′33″ N., long. 99°39′06″ W.)
BOKKI, NE | Fix | (Lat. 41°39′55″ N., long. 99°52′17″ W.)
Ainsworth, NE (ANW) | VOR/DME | (Lat. 42°34′09″ N., long. 99°59′23″ W.)
LKOTA, SD | WP (New) | (Lat. 43°15′28″ N., long. 100°03′14″ W.)
Pierre, SD (PIR) | VORTAC | (Lat. 44°23′40″ N., long. 100°09′46″ W.)
* * * * * * *
T-283 Scottsbluff, NE to Pierre, SD [New]
Scottsbluff, NE (BFF) | VORTAC | (Lat. 41°53′39″ N., long. 103°28′55″ W.)
Gordon, NE (GRN) | NDB | (Lat. 42°48′04″ N., long. 102°10′46″ W.)
WNDED, SD | WP (New) | (Lat. 43°19′14″ N., long. 101°32′19″ W.)
Pierre, SD (PIR) | VORTAC | (Lat. 44°23′40″ N., long. 100°09′46″ W.)
* * * * * * *
T-285 North Platte, NE to Huron, SD [New]
North Platte, NE (LBF) | VORTAC | (Lat. 41°02′55″ N., long. 100°44′50″ W.)
Thedford, NE (TDD) | VOR/DME | (Lat. 41°58′54″ N., long. 100°43′09″ W.)
MARSS, NE | Fix | (Lat. 42°27′49″ N., long. 100°36′15″ W.)
Valentine, NE (VTN) | NDB | (Lat. 42°51′42″ N., long. 100°32′59″ W.)
LKOTA, SD | WP (New) | (Lat. 43°15′28″ N., long. 100°03′14″ W.)
Winner, SD (ISD) | VOR | (Lat. 43°29′16″ N., long. 99°45′41″ W.)
Huron, SD (HON) | VORTAC | (Lat. 44°26′24″ N., long. 98°18′40″ W.)
* * * * * * *
T-286 Rapid City, SD to Grand Island, NE [New]
Rapid City, SD (RAP) | VORTAC | (Lat. 43°58′34″ N., long. 103°00′44″ W.)
Gordon, NE (GRN) | NDB | (Lat. 42°48′04″ N., long. 102°10′46″ W.)
EFFEX, NE | WP (New) | (Lat. 42°19′59″ N., long. 101°20′11″ W.)
Thedford, NE (TDD) | VOR/DME | (Lat. 41°58′54″ N., long. 100°43′09″ W.)
BOKKI, NE | Fix | (Lat. 41°39′55″ N., long. 99°52′17″ W.)
Grand Island, NE (GRI) | VORTAC | (Lat. 40°59′03″ N., long. 98°18′53″ W.)
* * * * * * *
T-288 Rapid City, SD to Wolback, NE [New]
Rapid City, SD (RAP) | VORTAC | (Lat. 43°58′34″ N., long. 103°00′44″ W.)
WNDED, SD | WP (New) | (Lat. 43°19′14″ N., long. 101°32′19″ W.)
Valentine, NE (VTN) | NDB | (Lat. 42°51′42″ N., long. 100°32′59″ W.)
Ainsworth, NE (ANW) | VOR/DME | (Lat. 42°34′09″ N., long. 99°59′23″ W.)
FESNT, NE | WP (New) | (Lat. 42°03′57″ N., long. 99°17′18″ W.)
Wolback, NE (OBH) | VORTAC | (Lat. 41°22′33″ N., long. 98°21′13″ W.)

Issued in Washington, DC, on July 27, 2010.
Edith V. Parish,
Manager, Airspace and Rules Group.

[FR Doc. 2010-19270 Filed 8-4-10; 8:45 am]

BILLING CODE 4910-13-P